DEPARTMENT OF TRANSPORTATION

Federal Highway Administration

Transportation Equity Act for the 21st Century; Critical Intelligent Transportation System Standards

AGENCY: Federal Highway Administration (FHWA), DOT.

ACTION: Notice.

SUMMARY: The Transportation Equity Act for the 21st Century (TEA-21) requires the Secretary of Transportation to identify Intelligent Transportation System (ITS) standards considered critical to achieving national interoperability. With a consensus from ITS America, the Secretary has identified eighteen such standards. To ensure that the critical standards are implemented in a timely fashion, the TEA-21 requires the Secretary to establish provisional standards for those standards not adopted and published by January 1, 2001. All but two of the eighteen critical standards have been adopted and published. The TEA-21 also provides that the Secretary may waive the requirement to establish provisional standards if he determines that additional time would be productive or that establishing a provisional standard would be counterproductive. The Secretary has decided that more time would be productive to complete the standard would be counterproductive in both cases since many of the same individuals would be asked to assist in creating the provisional standards, thus further delaying the completion of these critical standards. Therefore, the Secretary decided to waive the requirement to develop provisional standards for the two critical ITS standards not adopted and published by January 1, 2001.

FOR FURTHER INFORMATION CONTACT: For the ITS standards program: Mr. Mike Schagrin, ITS Joint Program Office, HOIT, (202) 366-2180, e-mail address mike.schagrin@fhwa.dot.gov. For legal issues: Mr. Wilbert Baccus, Office of the Chief Counsel, (HCC-32) (202) 366-0780, e-mail address wilbert.baccus@fhwa.dot.gov, Federal Highway Administration, 400 Seventh Street, SW., Washington, DC 20590.

SUPPLEMENTARY INFORMATION:

Electronic Access

An electronic copy of this document may be downloaded by using a computer, modem and suitable communications software from the Government Printing Office's Electronic Bulletin Board Service at (202) 512-1661. Internet users may reach the Office of the Federal Register's home page at http://www.nara.gov/fedreg and the Government Printing Office's web site at http://www.access.gpo.gov/nara.

Background

The Transportation Equity Act for the 21st Century (TEA-21), Public Law 105-178, 112 stat.107, states that the specific purpose of the ITS Standards Program is “to promote and ensure interoperability in the implementation of intelligent transportation system technologies.” The U.S. DOT has established cooperative agreements with five standards development organizations (SDOs) to accelerate the development of ITS standards that would promote national interoperability in ITS. These SDOs include: American Association of State Highway and Transportation Officials (AASHTO); American Society for Testing & Materials (ASTM); Institute of Electrical and Electronics Engineers (IEEE); Institute of Transportation Engineers (ITE); and Society of Automotive Engineers (SAE). Standards developed under this program are consensus standards and will remain the property of the SDO under which they were developed. Some ITS standards may be adopted by the Government as part of a rulemaking process, but that decision will not be made until the standard is complete and the need for rulemaking has been established.

Further, the TEA-21 requires the Secretary of Transportation to identify the standards that are considered to be critical to achieving national interoperability. To ensure that the critical standards are implemented in a timely fashion, the Secretary shall establish provisional standards for those critical standards that are not adopted and published by January 1, 2001.

The TEA-21 provides that if the Secretary determines that establishing a provisisonal standard is not necessary, then the Secretary may waive the requirement to establish a provisional standard if Secretary determines that additional time would be productive or that establishment of a provisional standard would be counterproductive.

After a consensus-building process led by ITS America, the Secretary developed and submitted a report to the Congress. The report describes and explains the criteria for selecting which standards are critical and identifies seventeen standards that meet the criteria. One of the critical standards identified in the report ¹ (“High Speed FM Subcarrier Waveform Standard”), was subsequently divided into two separate standards (“Data Radio Channel (DARC) System” and “Subcarrier Traffic Information Channel (STIC) System”), thus yielding a total of eighteen critical standards, as follows:

¹ “Intelligent Transportation Systems: Critical Standards,” U.S. Department of Transportation, June 1999.

Lead SDO | Document No. | Title | Status
ANSI | TS286 | Commercial Vehicle Credentials | Published.
ANSI | TS285 | Commercial Vehicle Safety and Credentials Information Exchange | Published.
ANSI | TS284 | Commercial Vehicle Safety Reports | Published.
SAE | J2353 | Data Dictionary for Advanced Traveler Information System (ATIS) | Published.
EIA/CEA | EIA-794 | Data Radio Channel (DARC) System | Published.
SAE | J1746 | ISP-Vehicle Location Referencing Std. | Published.
SAE | J2354 | Message Set for Advanced Traveler Information System (ATIS) | Published.
SAE | J2313 | On-Board Land Vehicle Mayday Reporting Interface | Published.
ASTM | PS 105-99 | Specification for Dedicated Short Range Comm. (DSRC) Data Link Layer: Medium Access and Logical Link Control | Published.
ASTM | PS 111-98 | Specification for Dedicated Short Range Comm. (DSRC) Physical Layer using Microwave in the 902-928 MHz Band | Published.
SAE | J2369 | Standard for ATIS Message Sets Delivered Over Bandwidth Restricted Media | Published.
IEEE | Std 1512-2000 | Standard for Common Incident Management 2000 Message Sets (IMMS) for use by EMCs | Published.
IEEE | Std 1489-1999 | Standard for Data Dictionaries for Intelligent Transportation Systems | Published.
ITE | TM 1.03 | Standard for Functional Level Traffic Management Data Dictionary (TMDD) | Under Development.
IEEE | Std 1455-1999 | Standard for Message Sets for Vehicle/Roadside Communications | Published.
ASTM | TBD | Standard Specification on Dedicated Short Range Communications (DSRC) at 5.89 GHz Physical Layer | Under Development.
EIA/CEA | EIA-795 | Subcarrier Traffic Information Channel (STIC) System | Published.
IEEE | Std 1488-2000 | Trial-Use Standard for Message Set Template for Intelligent Transportation Systems | Published.

Copies of the final report regarding Critical Standards submitted to Congress in June 1999, can be obtained by contacting the Federal Highway Administration, ITS Joint Program Office, Room 3401, HOIT, 400 Seventh Street, SW., Washington, DC 20590. Alternatively, it may be obtained in electronic format by logging on to the U.S. DOT's ITS Standards home page http://www.its-standards.net.

As of this date, sixteen of the eighteen standards identified as critical have been adopted and published by one or more of the SDOs. Two remaining standards are still under development and did not meet the January 1, 2001, deadline for completion. These standards are: Standard for Functional Level Traffic Management Data Dictionary (TMDD) and the Standard Specification on Dedicated Short Range Communications (DSRC) at 5.89 GHz (this standard development effort may ultimately result in more than one standard).

The Standard for Functional Level Traffic Management Data Dictionary [TMDD] establishes data elements for roadway links and traffic-disruptive roadway incidents and events. It includes data elements for traffic control, ramp metering, traffic modeling, video camera control, traffic and parking management, weather forecasting, detectors, actuated signal controllers, vehicle probes, and dynamic message signs.

Although the TMDD will most likely not be adopted by the SDOs that are developing it until sometime after June 2001, portions of it are already being used by the ITS community. Since it is the intent of the TEA-21 that standards “promote the widespread use and evaluation of intelligent transportation system technology as a component of the surface transportation systems of the United States,” it is reasonable to conclude that TMDD is already achieving this goal. Since the standard is already being used prior to adoption and publication, issuing a provisional standard would be counterproductive. In addition, due to the nature of the ITS standards development process, there are a limited number of individuals who have the ability to create such a standard. If the Government created a provisional standard, many of the same individuals would be asked to assist in its creation, thus further delaying the ultimate completion of the work. The establishment of a provisional standard in this case would also negate the consensus standards process that is vital to the creation of robust, useful standards in the area of intelligent transportation. Thus, the Secretary of Transportation hereby waives the establishment of a provisional standard for the TMDD.

The Standard Specification on Dedicated Short Range Communications (DSRC) at 5.89 GHz will establish the specification for the radio frequency characteristics (physical layer) for DSRC operating in the range of 5.89 GHz. In addition, it will specify the protocol (data link) communications at this frequency. The DSRC standard remains under development by a standards committee and was not completed by January 1, 2001. It is likely that adoption and publication of one or more standards for DSRC at 5.89 GHz will not occur until at least early 2002.

The Federal Communications Commission only recently approved the 5.89 GHz band for dedicated short-range communications in December 1999, which is a contributing factor in not having the standard completed and published by the January 2001 deadlines. Standards for this type of communication will greatly expand opportunities for integrating a variety of vehicle-to-roadside services and payment systems.

The manufacturers of DSRC devices joined in “pre-standards” activities to define the requirements for devices operating at 5.9 GHz. However, the manufacturers face a technological challenge: existing silicon-based technology cannot economically operate at the higher frequencies, requiring devices based on gallium arsenide technology. In many regards this may be a benefit because all of the equipment manufacturers will be starting development anew, thereby “leveling the field” and circumventing the situation in the 915 MHz band where incompatible technologies predated the standards efforts.

Since DSRC manufacturers are working with potential users and standards writers to develop interoperable 5.9 GHz DSRC standards and equipment, it would be impractical to establish a separate project to write a provisional standard. During the time required to develop and draft a provisional standard, these standards would be completed. As noted above in the case of the TMDD standard, since the interested stakeholders are already involved in the effort, few, if any, suitable experts would be available to the U.S. DOT to work on a provisional standard.

Thus, considering the mitigating factors noted above, and supporting the ongoing standard development efforts for the DSRC at 5.9 GHz standard the Secretary of Transportation hereby waives the establishment of a provisional standard. Additionally, by allowing the consensus standards development process to proceed normally, the standards developers will produce more robust standards in the long run. It will give them time to work out practical details and to verify that the standards will lead to economical development of devices that work effectively.

The Secretary will continue to monitor progress on the development of these two critical standards. If, within a six-month period after this waiver, satisfactory progress has not been made on the development of the two standards in question, the Secretary reserves the right to reevaluate the situation and decide whether establishing provisional standards would be beneficial to the goals of the ITS Program and the legislative intent of the TEA-21.

(Authority: 23 U.S.C. 315; sec. 5206, Pub. L. 105-178, 112 Stat. 107, 456 (1998); 49 CFR 1.48)
Issued on: April 17, 2001.
Vincent F. Schimmoller,
Deputy Executive Director, Federal Highway Administration.

[FR Doc. 01-9998 Filed 4-20-01; 8:45 am]

BILLING CODE 4910-22-P